DEPARTMENT OF TRANSPORTATION

Federal Aviation Administration

14 CFR Part 73

[Docket No. FAA-2004-17773; Airspace Docket No. 04-ASW-11]

RIN 2120-AA66

Modification of Restricted Areas 5103A, 5103B, and 5103C, and Revocation of Restricted Area 5103D; McGregor, NM

AGENCY: Federal Aviation Administration (FAA), DOT.

ACTION: Final rule.

SUMMARY: This action revises Restricted Areas 5103A (R-5103A), 5103B (R-5103B), and 5103C (R-5103C), and revokes Restricted Area 5103D (R-5103D) at McGregor, NM. The United States Army (U.S. Army) requested that the FAA reduce the size of R-5103A; combine a portion of the area currently designated as R-5103A and a portion of the area currently designated as R-5103D, designating the combined area as a new R-5103B; and combine the areas currently designated as R-5103B and R-5103C, and re-designate the combined area as a new R-5103C. The new R-5103A, B, and C will essentially occupy the same overall boundaries and altitudes as the current R-5103A, B, C, and D; a segment of the western boundary of R-5103C will move approximately one mile to the west; and a portion of the area currently designated as R-5103D will be eliminated. The altitude structure of the new R-5103A will be from the surface to but not including flight level (FL) 180, and R-5103B and R-5103C will be from the surface to unlimited. These modifications will allow the U.S. Army to activate the restricted areas in a manner that is more consistent with the actual utilization of the airspace.

DATES: 0901 UTC, January 20, 2005.

FOR FURTHER INFORMATION CONTACT: Steve Rohring, Airspace and Rules, Office of System Operations and Safety, Federal Aviation Administration, 800 Independence Avenue, SW., Washington, DC 20591; telephone: (202) 267-8783.

SUPPLEMENTARY INFORMATION:

Background

On June 9, 2004, the FAA proposed to revise R-5103A, R-5103B, and R-5103C, and to revoke R-5103D in response to a request from the U.S. Army (69 FR 32296). Interested parties were invited to participate in this rulemaking proceeding by submitting written comments on the proposal to the FAA. The FAA received no comments in response to the proposal.

The Rule

At the request of the U.S. Army, the FAA is amending Title 14 Code of Federal Regulations (14 CFR) part 73 (part 73) to revise R-5103A, R-5103B, and R-5103C, and to revoke R-5103D. Specifically, R-5103A will be reduced in size, in that, a portion of the area currently designated as R-5103A and a portion of the area currently designated as R-5103D will be combined and re-designated as a new R-5103B. The areas currently designed as R-5103B and R-5103C will be combined and re-designated as a new R-5103C and R-5103D will be revoked. The new R-5103A, B, and C will occupy the same overall boundaries and altitudes as the current R-5103A, B, C, and D with the exception of a segment of the western boundary of R-5103C which will be moved approximately one mile to the west. Also, the portion of the area currently designated as R-5103D that will not be combined into the new R-5103B will be eliminated from the restricted area airspace. The altitude structure for the new R-5103A will be from the surface to, but not including, FL180, and the new R-5103B and R-5103C will be from the surface to unlimited. These modifications will allow the U.S. Army to activate the restricted areas in a manner that is more consistent with the actual utilization of the airspace. This action will not change the times of use, using agency, or controlling agency of these restricted areas.

Section 73.51 of part 73 of Federal Aviations Regulations was republished in FAA Order 7400.8L, Special Use Airspace, dated October 7, 2003.

The FAA has determined that this proposed regulation only involves an established body of technical regulations for which frequent and routine amendments are necessary to keep them operationally current. Therefore, this proposed regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with paragraphs 311(c) and 311(d) of FAA Order 1050.1E, Policies and Procedures for Considering Environmental Impacts. This airspace action is not expected to cause any potentially significant environmental impacts, and no extraordinary circumstances exist that warrant preparation of an environmental assessment.

List of Subjects in 14 CFR Part 73

Airspace, Navigation (air).

The Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.51 (Amended)

2. § 73.51 is amended as follows:

* * * * *

R-5103A McGregor, NM (Amended)

By removing the current boundaries and designated altitudes and substituting the following:

Boundaries. Beginning at lat. 32°03′55″ N., long. 106°10′00″ W.; to lat. 32°03′30″ N., long. 105°53′50″ W.; to lat. 32°00′15″ N., long. 105°56′42″ W.; to lat. 32°00′30″ N., long. 106°10′27″ W.; to the point of beginning.

Designated altitudes. Surface to but not including FL 180.

* * * * *

R-5103B McGregor, NM (Amended)

By removing the current boundaries and designated altitudes and substituting the following:

Boundaries. Beginning at lat. 32°15′00″ N., long. 106°10′02″ W.; to lat. 32°15′00″ N., long. 105°42′02″ W.; to lat. 32°03′30″ N., long. 105°53′50″ W.; to lat. 32°03′55″ N., long. 106°10′00″ W.; to lat. 32°05′02″ N., long. 106°09′22″ W.; to lat. 32°06′00″ N., long. 106°15′32″ W.; to the point of beginning.

Designated altitudes. Surface to unlimited.

* * * * *

R-5103C McGregor, NM (Amended)

By removing the current boundaries and designated altitudes and substituting the following:

Boundaries. Beginning at lat. 32°45′00″ N., long. 105°53′02″ W.; to lat. 32°45′00″ N., long. 105°52′22″ W.; to lat. 32°33′20″ N., long. 105°30′02″ W.; to lat. 32°26′20″ N., long. 105°30′02″ W.; to lat. 32°15′00″ N., long. 105°42′02″ W.; to lat. 32°15′00″ N., long. 106°10′02″ W.; to lat. 32°28′00″ N., long. 106°02′00″ W.; to lat. 32°27′00″ N., long. 106°00′02″ W.; to lat. 32°36′00″ N., long. 106°00′00″ W.; to lat. 32°45′00″ N., long. 105°59′02″ W.; to the point of beginning, excluding that airspace within a 2 NM radius of lat. 32°39′00″ N., long. 105°41′00″ W.; from the surface to 1,500' AGL and also excluding that airspace beginning at lat. 32°42′49″ N., long. 105°48′11″ W.; to lat. 32°41′00″ N., long. 105°50′00″ W.; to lat. 32°40′00″ N., long. 105°48′00″ W.; to lat. 32°41′48″ N., long. 105°46′12″ W.; to the point of beginning from the surface to 1,500″ above the surface.

Designated altitudes. Surface to unlimited.

* * * * *

R-5103D McGregor, NM (Revoked)

* * * * *

Issued in Washington, DC, December 2, 2004.
Reginald C. Matthews,
Manager, Airspace and Rules.

[FR Doc. 04-27220 Filed 12-10-04; 8:45 am]

BILLING CODE 4910-13-P